ENVIRONMENTAL PROTECTION AGENCY

40 CFR Part 52

[EPA-R05-OAR-2017-0323; FRL-9972-33-Region 5]

Air Plan Approval; Illinois; Volatile Organic Compounds Definition; Withdrawal of Direct Final Rule

AGENCY: Environmental Protection Agency (EPA).

ACTION: Withdrawal of direct final rule.

SUMMARY: Due to the receipt of an adverse comment, the Environmental Protection Agency (EPA) is withdrawing the November 2, 2017, direct final rule approving changes to the Illinois Administrative Code definition of volatile organic material, otherwise known as volatile organic compound (VOC). The revision would remove recordkeeping and reporting requirements related to the use of t-butyl acetate as a VOC, and is in response to an EPA rulemaking that occurred in 2016.

DATES: The direct final rule published at 82 FR 50811 on November 2, 2017, is withdrawn effective December 21, 2017.

FOR FURTHER INFORMATION CONTACT: Charles Hatten, Environmental Engineer, Control Strategy Section, Air Programs Branch (AR-18J), Environmental Protection Agency, Region 5, 77 West Jackson Boulevard, Chicago, Illinois 60604, (312) 886-6031, hatten.charles@epa.gov.

SUPPLEMENTARY INFORMATION: In the direct final rule, EPA stated that if adverse comments were submitted by December 4, 2017, the rule would be withdrawn and not take effect. EPA received an adverse comment prior to the close of the comment period and, therefore, is withdrawing the direct final rule. EPA will address the comment in a subsequent final action based upon the proposed action also published on November 2, 2017 (82 FR 50853). EPA will not institute a second comment period on this action.

List of Subjects in 40 CFR Part 52

Environmental protection, Air pollution control, Incorporation by reference, Intergovernmental relations, Ozone, Reporting and recordkeeping requirements, Volatile organic compounds.

Authority: 42 U.S.C. 7401 et seq.

Dated: December 11, 2017.
Robert A. Kaplan,
Acting Regional Administrator, Region 5.

PART 52—APPROVAL AND PROMULGATION OF IMPLEMENTATION PLANS

Accordingly, the amendment to 40 CFR 52.720 published in the Federal Register on November 2, 2017 (82 FR 50811) is withdrawn effective December 21, 2017.

[FR Doc. 2017-27426 Filed 12-20-17; 8:45 am]

BILLING CODE 6560-50-P